DEPARTMENT OF COMMERCE

National Oceanic and Atmospheric Administration

National Sea Grant Review Panel

AGENCY: National Oceanic and Atmospheric Administration, Commerce.

ACTION: Notice of public meeting.

SUMMARY: This notice sets forth the schedule and proposed agenda of a forthcoming meeting of the Sea Grant Review Panel. The meeting will have several purposes. Panel members will discuss and provide advice on the National Sea Grant College Program in the areas of program evaluation, strategic planning, education, communications and extension, science and technology programs, and other matters as described below:

DATES: The announced meeting is scheduled during two days: Wednesday, November 17, 2 p.m. to 6 p.m.; Thursday, November 18, 8:45 a.m. to 3 p.m.

ADDRESSES: On November 17th, St. Gregory Hotel, 2033 M Street, Northwest, Washington, DC 20036. On November 18th, Sea Grant Association Office, 1201 New York Avenue, Northwest, 4th Floor Conference Room, Washington, DC 20005.

FOR FURTHER INFORMATION CONTACT: Dr. Francis M. Schuler, Designated Federal Official, National Sea Grant College Program, National Oceanic and Atmospheric Administration, 1315 East-West Highway, Room 11837, Silver Spring, Maryland 20910, (301) 713-2445.

SUPPLEMENTARY INFORMATION: The Panel, which consists of a balanced representation from academia, industry, state government and citizens groups, was established in 1976 by Section 209 of the Sea Grant Improvement Act (Public Law 94-461, 33 U.S.C. 1128). The Panel advises the Secretary of Commerce and the Director of the National Sea Grant College Program with respect to operations under the Act, and such other matters as the Secretary refers to them for review and advice. The agenda for the meeting is as follows:

Wednesday, November 17, 2004

2 p.m.-6 p.m.

2 p.m.—Welcoming and Opening Remarks.

2:15 p.m.—Executive Committee Report.

2:30 p.m.—National Sea Grant Office (NSGO) Director Report.

3:30 p.m.—NOAA Research Update.

4 p.m.—Break.

4:15 p.m.—Communications Report Discussion.

5:30 p.m.—NOAA's Program Planning, Budget and Execution System.

6 p.m.—Adjourn.

Thursday, November 18, 2004

9 a.m.-3 p.m.

9 a.m.—NOAA's Climate Change Science Programs.

9:30 a.m.—NOAA's Coastal Programs and the Integrated Ocean Observing System.

10 a.m.—Update/Recommendations from Program Evaluation.

10:30 a.m.—Congressional Committee Updates.

11:30 p.m.—Lunch.

12:30 p.m.—Universities and the Ocean Commission Report.

1 p.m.—Ocean Commission Report—Developing a Sea Grant Strategy: A Panel Discussion.

2 p.m.—NSGO Staff Updates.

2:45 p.m.—Wrap-Up.

3 p.m.—Adjourn.

This meeting will be open to the public.

Dated: October 29, 2004.
Louisa Koch,
Deputy Assistant Administrator, Office of Oceanic and Atmospheric Research.

[FR Doc. 04-24538 Filed 11-2-04; 8:45 am]

BILLING CODE 3510-KA-P